DEPARTMENT OF VETERANS AFFAIRS

Privacy Act of 1974; System of Records

AGENCY: Department of Veterans Affairs (VA), Veterans Health Administration.

ACTION: Notice of a modified system of records.

SUMMARY: As required by the Privacy Act of 1974 notice is hereby given that the Department of Veterans Affairs (VA) is amending the system of records entitled, “Employee Incentive Scholarship Program-VA” (110VA10) as set forth in the Federal Register. VA is amending the system of records by revising the System Location; System Manager; Routine Uses of Records Maintained in the System and Policies; Policies and Practices for Retrievability of Records; Policies and Practices for Retention and Disposal of Records; Administrative, Technical, and Physical Safeguards; Record Access Procedure; and Notification Procedure. VA is republishing the system notice in its entirety.

DATES: Comments on the amendment of this system of records must be received no later than May 6, 2021. If no public comment is received during the period allowed for comment or unless otherwise published in the Federal Register by VA, the amended system will become effective May 6, 2021.

ADDRESSES: Comments may be submitted through www.Regulations.gov or mailed to VA Privacy Service, 810 Vermont Avenue NW, (005R1A), Washington, DC 20420. Comments should indicate that they are submitted in response to “Employee Incentive Scholarship Program-VA (110VA10)”. Comments received will be available at regulations.gov for public viewing, inspection or copies.

FOR FURTHER INFORMATION CONTACT: Stephania Griffin, Veterans Health Administration (VHA) Privacy Officer, Department of Veterans Affairs, 810 Vermont Avenue NW, Washington, DC 20420; telephone (704) 245-2492 (Note: not a toll-free number).

SUPPLEMENTARY INFORMATION: The System Location is being amended to change Health Care Staff Development and Retention Office (HCSDRO/10A2D) 1555 Poydras Street, Suite 1971, New Orleans, Louisiana 70112 to Scholarships and Clinical Education (SCE/106A) 1250 Poydras Street, Suite 1000, New Orleans, LA 70113; the Austin Automation Center is being changed to the Austin Information Technology Center (AITC). This section will include the Little Rock Data Center, 2200 Fort Roots Drive, North Little Rock, Arkansas 72114, Southeast Louisiana Veterans Healthcare System Storage Warehouse, 4301 Poche Court West, New Orleans, Louisiana 70129.

The System Manager, Record Access Procedure, and Notification Procedure are being amended to replace Director, Health Care Staff Development and Retention Office (HCSDRO/10A2D) 1555 Poydras Street, Suite 1971, New Orleans, Louisiana 70112 to Nicole Nedd, Director, Scholarships and Clinical Education (SCE/106A) 1250 Poydras Street, Suite 1000, New Orleans, LA 70113.

The Routine Uses of Records Maintained in the System is amending Routine Use #6 to remove General Services Administration (GSA).

Routine Use #11 language is being amended which states that disclosure of the records to the U.S. Department of Justice (DoJ) is a use of the information contained in the records that is compatible with the purpose for which VA collected the records. VA may disclose records in this system of records in legal proceedings before a court or administrative body after determining that the disclosure of the records to the court or administrative body is a use of the information contained in the records that is compatible with the purpose for which VA collected the records. This routine use will now state that release of the records to DoJ is limited to circumstances where relevant and necessary to the litigation.

Routine Use #15 is being amended by clarifying the language to state, “VA may disclose any information or records to appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons is reasonably necessary to assist in connection with VA efforts to respond to the suspected or confirmed breach or to prevent, minimize, or remedy such harm.”

Routine Use #16 is being added to state, “VA may disclose information from this system of records to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach. VA needs this routine use for the data breach response and remedial efforts with another Federal agency.”

The Policies and Practices for Retention and Disposal of Records is being amended to replace, “Records will be maintained and disposed of in accordance with records disposition authority approved by the Archivist of the United States.” with, Records are maintained according to RCS 10-1; 3075.9. Incentive package records. Records of recruitment, relocation, and retention incentives; Federal Student Loan repayment; and supervisory differentials offered under the Federal Employees Pay Comparability Act. Temporary; destroy 3 years after date of approval, completion of service agreement, or termination of incentive or differential payment, whichever is later, but longer retention is authorized if required for business use. (GRS 2.4 item 090, DAA-GRS-2016-0015-0011).

The Policies and Practices for Retrievability of Records and the Administrative, Technical, and Physical Safeguards are being amended to replace Health Care Staff Development and Retention Office (HCSDRO) with Scholarships and Clinical Education (SCE). This section will include the Little Rock Data Center, 2200 Fort Roots Drive, North Little Rock, Arkansas 72114.

The Report of Intent to Amend a System of Records Notice and an advance copy of the system notice have been sent to the appropriate Congressional committees and to the Director of the Office of Management and Budget (OMB) as required by the Privacy Act and guidelines issued by OMB, December 12, 2000.

Signing Authority

The Senior Agency Official for Privacy, or designee, approved this document and authorized the undersigned to sign and submit the document to the Office of the Federal Register for publication electronically as an official document of the Department of Veterans Affairs. Dominic A. Cussatt, Acting Assistant Secretary of Information and Technology and Chief Information Officer, approved this document on February 24, 2021 for publication.

Dated: April 1, 2021.
Amy L. Rose,
Program Analyst, VA Privacy Service, Office of Information Security, Office of Information and Technology, Department of Veterans Affairs.

SYSTEM NAME AND NUMBER:

Employee Incentive Scholarship Program-VA (110VA10).

SECURITY CLASSIFICATION:

Unclassified.

SYSTEM LOCATION:

Active records will be maintained at the Scholarships and Clinical Education (SCE/106A), Department of Veterans Affairs (VA), Veterans Health Administration (VHA),1250 Poydras Street, Suite 1000, New Orleans, LA 70113; the Austin Information Technology Center (AITC), Department of Veterans Affairs, 1615 East Woodward Street, Austin, Texas 78772; Little Rock Data Center, 2200 Fort Roots Drive, North Little Rock, Arkansas 72114, Southeast Louisiana Veterans Healthcare System Storage Warehouse, 4301 Poche Court West, New Orleans, Louisiana 70129 and the VA health care facilities and VISN offices where scholarship recipients are employed. Address locations for VA health care facilities are listed in Appendix 1 of the Biennial Publication of Privacy Act Issuances. Complete records will be maintained only at the SCE address.

SYSTEM MANAGER(S):

Nicole Nedd, Director, Scholarships and Clinical Education (SCE/106A), VHA, 1250 Poydras Street, Suite 1000, New Orleans, LA 70113. The telephone number is 504-589-5267. (This is not a toll-free number.)

AUTHORITY FOR MAINTENANCE OF THE SYSTEM:

Title 38 U.S.C. 501, 503, 7451, 7452, and 7431-7440.

PURPOSE(S) OF THE SYSTEM:

The records and information may be used for determining and documenting individual applicant eligibility for scholarship awards, calculating the service commitments for scholarship recipients, ensuring program financial accountability, monitoring individual applicant educational progress, monitoring the employment status of scholarship recipients during their periods of obligated service, terminating the employee from the program, and evaluating and reporting program results and effectiveness. The information would be used to determine the financial liability of individuals who breach their Employee Incentive Scholarship Program (EISP) contracts.

CATEGORIES OF INDIVIDUALS COVERED BY THE SYSTEM:

VA employees who apply for and are denied or granted educational assistance awards under the provisions of VA EISP in a field leading to appointment or retention in a position listed in 38 U.S.C. 7401.

CATEGORIES OF RECORDS IN THE SYSTEM:

Records (or information contained in records) in this system may include personal identification information related to the application material, to award processes, to employment, to obligated service, and to requests for waivers or suspensions of obligated service or financial indebtedness to VA such as (1) name, (2) employing facility number, (3) telephone number(s), (4) Social Security number, (5) award amount, (6) obligated service incurred, and (7) name and address of the educational institution; or any amount if indebtedness (accounts receivable) arising from the scholarship and owed to VA. The application for an EISP award includes the applicant's full name, employing facility number, home and work telephone numbers, Social Security number, job title, current education level, degree sought, description of the academic program covered by the scholarship, the starting and completion dates of the employee's academic program, the name and address of the academic institution, the number of credits in the student's academic program plan and the cost of the education covered by the academic program plan. Records may include memoranda submitted by the employees, calculations for the service obligations, copies of letters and memoranda from employees making the requests and in correspondence to employees and appropriate local program officials delineating the decisions on such requests.

RECORD SOURCE CATEGORIES:

Information contained in the records is obtained from the individual, references given in application material, educational institutions, VA medical facilities, the VA AITC, other Federal agencies, state agencies and consumer reporting agencies.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia, or infection with the Human Immunodeficiency Virus, that information may not be disclosed under a routine use unless there is also specific statutory authority in 38 U.S.C. 7332 and regulatory authority in 45 CFR parts 160 and 164 permitting disclosure.

1. Disclosure of any information in this system that is necessary to verify authenticity and completeness of the application may be made to educational institutions and other relevant organizations or individuals.

2. Disclosure of any information in this system may be made to a Federal agency in order to determine if an applicant has an obligation for service under another Federal program, thus rendering the applicant ineligible for a VA Employee Incentive Scholarship Program Award.

3. Disclosure of an information in this system may be made to the local supervisory officials and program coordinators to ensure that individual data in the system of records is up to date and that award recipients are in compliance with the terms of the scholarship program contract.

4. Any information in this system may be used to evaluate and report program results and effectiveness to appropriate officials including members of Congress on a routine and ad hoc basis.

5. Disclosure may be made to a Congressional office from the record or an individual in response to an inquiry from the Congressional office made at the request of that individual.

6. Disclosure may be made to National Archives and Records Administration (NARA) in records management inspections conducted under authority of Title 44, Chapter 29, of the U.S.C.

7. Disclosure of information to the Federal Labor Relations Authority (FLRA) (including its General Counsel) when requested in connection with the investigation and resolution of allegations of unfair labor practices, in connection with matters before the Federal Service Impasses Panel, and to investigate representation petitions and conduct or supervise representation elections.

8. Disclosure may be made to officials of labor organizations recognized under 5 U.S.C. chapter 71 when relevant and necessary to their duties of exclusive representation concerning personnel policies, practices, and matters affecting working conditions.

9. Disclosure may be made to officials of the Merit Systems Protection Board (MSPB), or the Office of the Special Counsel, when requested in connection with appeals, special studies of the civil service and other merit systems, review of rules and regulations, investigation of alleged or possible prohibited personnel practices, and such other functions promulgated in 5 U.S.C. 1205 and 1206, or as may be authorized by law.

10. VA may disclose information from this system to the Equal Employment Opportunity Commission (EEOC) when requested in connection with investigations of alleged or possible discriminatory practices, examination of Federal affirmative employment programs, or other functions of the Commission as authorized by law or regulation.

11. VA may disclose information in this system of records to the DoJ, either on VA's initiative or in response to DoJ's request for the information, after either VA or DoJ determines that such information is relevant to DoJ's representation of the United States or any of its components in legal proceedings before a court or adjudicative body, provided that, in each case, the agency also determines prior to disclosure that release of the records to the DoJ is limited to circumstances where relevant and necessary to the litigation. VA may disclose records in this system of records in legal proceedings before a court or administrative body after determining that release of the records to the DoJ is limited to circumstances where relevant and necessary to the litigation.

12. Disclosure may be made to individuals, organizations, private or public agencies, or other entities or individuals with whom VA has a contract or agreement to perform such services as VA may deem practicable for the purposes of laws administered by VA, in order for the contractor, subcontractor, public or private agency, or other entity or individual with whom VA has an agreement or contract to perform the services of the contract or agreement.

13. VA may disclose information in this system, except the names and home addresses of veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. VA may also disclose the names and addresses of veterans and their dependents to a Federal agency charged with the responsibility of investigating or prosecuting civil, criminal or regulatory violations of law, or charged with enforcing or implementing the statute, regulation, rule or order issued pursuant thereto.

14. Disclosure to other Federal agencies may be made to assist such agencies in preventing and detecting possible fraud or abuse by individuals in their operations and programs.

15. VA may disclose any information or records to appropriate agencies, entities, and persons when (1) VA suspects or has confirmed that there has been a breach of the system of records; (2) VA has determined that as a result of the suspected or confirmed breach there is a risk to individuals, VA (including its information systems, programs, and operations), the Federal Government, or national security; and (3) the disclosure made to such agencies, entities, or persons is reasonably necessary to assist in connection with VA efforts to respond to the suspected or confirmed breach or to prevent, minimize, or remedy such harm.

16. VA may disclose information from this system of records to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach. VA needs this routine use for the data breach response and remedial efforts with another Federal agency.

DISCLOSURE TO CONSUMER REPORTING AGENCIES:

Pursuant to 5 U.S.C. 552a(b)(2), VA may disclose records from this system to consumer reporting agencies as defined in the Fair Credit Reporting Act (15 U.S.C. 1681a(f) or the Federal Claims Collection Act of 1966 (31 U.S.C. 3701(a)(3)).

POLICIES AND PRACTICES FOR STORAGE OF RECORDS:

Records are maintained on paper (i.e., computer printouts), and electronic media.

POLICIES AND PRACTICES FOR RETRIEVABILITY OF RECORDS:

Records are retrieved by use of the award number or an equivalent participant account number assigned by SCE, Social Security number and the name of the individual.

POLICIES AND PRACTICES FOR RETENTION AND DISPOSAL OF RECORDS:

Records are maintained according to RCS 10-1; 3075.9. Incentive package records. Records of recruitment, relocation, and retention incentives; Federal Student Loan repayment; and supervisory differentials offered under the Federal Employees Pay Comparability Act.

Temporary; destroy 3 years after date of approval, completion of service agreement, or termination of incentive or differential payment, whichever is later, but longer retention is authorized if required for business use. (GRS 2.4 item 090, DAA-GRS-2016-0015-0011)

ADMINISTRATIVE, TECHNICAL, AND PHYSICAL SAFEGUARDS:

Access to the basic file in SCE is restricted to authorized VA employees and vendors. Access to the office spaces where electronic media is maintained within SCE is further restricted to specifically authorized employees and is protected by contracted building security services. Records (typically computer printouts) at SCE will be kept in locked files and made available only to authorized personnel on a need-to-know basis. During non-working hours the file is locked, and the building is protected by contracted building security services. Records stored on electronic media are maintained on a VA-approved and managed, password protected, secure local area network (LAN) located within SCE office spaces, the Little Rock Data Center, 2200 Fort Roots Drive, North Little Rock, Arkansas 72114, and safeguarded as described above. Records stored on electronic media at Veterans Integrated Service Network (VISN) Offices, VA health care facilities, and the AITC in Austin, TX are provided equivalent safeguards subject to local policies mandating protection of information subject to Federal safeguards.

RECORD ACCESS PROCEDURE:

Individuals seeking information regarding access to and contesting of VA records in this system may write, call, or visit the Director, Scholarships and Clinical Education (SCE/106A), VHA, 1250 Poydras Street, Suite 1000, New Orleans, LA 70113. The telephone number is 504-589-5267. (This is not a toll-free number.)

CONTESTING RECORD PROCEDURES:

(See Record Access Procedures).

NOTIFICATION PROCEDURE:

Any individual who wishes to determine whether a record is being maintained in this system under his or her name or other personal identifier, or wants to determine the contents of such record should submit a written request or apply in person to the Director, Scholarships and Clinical Education (SCE/106A), VHA, 1250 Poydras Street, Suite 1000, New Orleans, LA 70113.

EXEMPTIONS PROMULGATED FOR THE SYSTEM:

None.

HISTORY:

Last full publication provided in 81 FR 45597 dated July 14, 2016.

[FR Doc. 2021-07023 Filed 4-5-21; 8:45 am]

BILLING CODE 8320-01-P